FEDERAL COMMUNICATIONS COMMISSION

47 CFR Parts 73 and 76

[MM Docket No. 00-10; FCC 01-123 and MM Docket No. 93-215; FCC 95-502]

Establishment of Class A TV Service and Cable Television Rate Regulation; Cost of Service Rules—Clarification Regarding Information Collection Requirements

AGENCY: Federal Communications Commission.

ACTION: Final rule; clarification and announcement of effective dates.

SUMMARY: The Federal Communications Commission published requirements related to Establishment of Class A TV Service and Cable Television Rate Regulation; Cost of Service Rules, which were determined to contain information collection requirements that were subject to OMB review. After further review, we have found OMB approval is not required. This document intends to provide clarification that these rules are effective and that it has been determined that these provisions are not subject to OMB review.

DATES: 47 CFR 73.1545(e) and 47 CFR 76.922(i)(6)(i) and (i)(7) are effective February 26, 2013.

FOR FURTHER INFORMATION CONTACT: John Norton, 202-418-2120, Media Bureau, Policy Division.

SUPPLEMENTARY INFORMATION: The Commission published documents in the Federal Register identifying rules that required OMB approval. After further review, we have found OMB approval is not required. The affected CFR sections are 47 CFR 73.1545(e) and 47 CFR 76.922(i)(6)(i) and (i)(7).

The following regulations are no longer pending OMB approval for the sections listed: 73.1545(e)-66 FR 21681, May 1, 2001 76.922(i)(6)(i) and (i)(7)-61 FR 9367, March 8, 1996.

Federal Communications Commission.
Marlene H. Dortch,
Secretary.

[FR Doc. 2013-03944 Filed 2-25-13; 8:45 am]

BILLING CODE 6712-01-P